SMALL BUSINESS ADMINISTRATION

[Disaster Declaration # 12168 and # 12169]

Kentucky Disaster # KY-00032

AGENCY: U.S. Small Business Administration.

ACTION: Notice.

SUMMARY: This is a Notice of the Presidential declaration of a major disaster for the Commonwealth of Kentucky (FEMA—1912—DR), dated 05/11/2010.

Incident: Severe Storms, Flooding, Mudslides, and Tornadoes.

Incident Period: 05/01/2010 and continuing.

DATES: Effective Date: 05/11/2010.

Physical Loan Application Deadline Date: 07/12/2010.

Economic Injury (EIDL) Loan Application Deadline Date: 02/11/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 05/11/2010, applications for disaster loans may be filed at the address listed above or other locally announced locations.

The following areas have been determined to be adversely affected by the disaster:

Primary Counties (Physical Damage and Economic Injury Loans): Casey, Lewis, Lincoln, Logan, Metcalfe, Rockcastle, Rowan, Woodford.

Contiguous Counties (Economic Injury Loans Only):

Kentucky: Adair, Anderson, Barren, Bath, Boyle, Butler, Carter, Cumberland, Elliott, Fayette, Fleming, Franklin, Garrard, Green, Greenup, Hart, Jackson, Jessamine, Laurel, Madison, Marion, Mason, Menifee, Mercer, Monroe, Morgan, Muhlenberg, Pulaski, Russell, Scott, Simpson, Taylor, Todd, Warren.

Ohio: Adams, Scioto.

Tennessee: Robertson.

The Interest Rates are:

| Percent
For Physical Damage:
Homeowners with Credit Available Elsewhere: | 5.500
Homeowners without Credit Available Elsewhere: | 2.750
Businesses with Credit Available Elsewhere: | 6.000
Businesses without Credit Available Elsewhere: | 4.000
Non-Profit Organizations with Credit Available Elsewhere: | 3.625
Non-Profit Organizations without Credit Available Elsewhere: | 3.000
For Economic Injury:
Businesses & Small Agricultural Cooperatives without Credit Available Elsewhere: | 4.000
Non-Profit Organizations without Credit Available Elsewhere: | 3.000

The number assigned to this disaster for physical damage is 121686 and for economic injury is 121690.

(Catalog of Federal Domestic Assistance Numbers 59002 and 59008)

James E. Rivera,
Associate Administrator for Disaster Assistance.

[FR Doc. 2010-12082 Filed 5-19-10; 8:45 am]

BILLING CODE 8025-01-P